ENVIRONMENTAL PROTECTION AGENCY

[FRL OP-OFA-065]

Environmental Impact Statements; Notice of Availability

Responsible Agency: Office of Federal Activities, General Information 202-564-5632 or https://www.epa.gov/nepa.

Weekly receipt of Environmental Impact Statements (EIS)

Filed April 3, 2023 10 a.m. EST Through April 10, 2023 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20230048, Final, GSA, MD, U.S. Food and Drug Administration Muirkirk Road Campus Master Plan, Review Period Ends: 05/15/2023, Contact: Lindsey Veas 202-262-9236.

EIS No. 20230049, Final, FERC, ND, Wahpeton Expansion Project, Review Period Ends: 05/15/2023, Contact: Office of External Affairs 866-208-3372.

EIS No. 20230050, Final, TxDOT, TX, Spur 399 Extension, Contact: Doug Booher 512-416-2663.

Under 23 U.S.C. 139(n)(2), TxDOT has issued a single document that consists of a final environmental impact statement and record of decision. Therefore, the 30-day wait/review period under NEPA does not apply to this action.

EIS No. 20230051, Draft Supplement, BR, CO, Near-term Colorado River Operations, Comment Period Ends: 05/30/2023, Contact: Genevieve Johnson 602-609-6739.

EIS No. 20230052, Final Supplement, USFS, VA, Mountain Valley Pipeline and Equitrans Expansion Project, Review Period Ends: 05/15/2023, Contact: Joby Timm 540-265-5100.

Amended Notice

EIS No. 20230007, Draft, TxDOT, TX, US 380 McKinney, Comment Period Ends: 04/20/2023, Contact: Doug Booher 512-416-2663.

Revision to FR Notice Published 03/24/2023; Extending the Comment Period from 04/05/2023 to 04/20/2023.

Dated: April 10, 2023.
Cindy S. Barger,
Director, NEPA Compliance Division, Office of Federal Activities.

[FR Doc. 2023-07923 Filed 4-13-23; 8:45 am]

BILLING CODE 6560-50-P